DEPARTMENT OF HEALTH AND HUMAN SERVICES

Centers for Disease Control and Prevention

[60Day-08-08AH]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Improving the Health and Safety of Minority Workers—New—National Institute for Occupational Safety and Health (NIOSH), Centers for Disease Control and Prevention (CDC).

Background and Brief Description

NIOSH, under Public Law 91-596, Sections 20 and 22 (Section 20-22, Occupational Safety and Health Act of 1970) has the responsibility to conduct research relating to innovative methods, techniques, and approaches dealing with occupational safety and health problems.

Occupational stress is one of the major causes of diminished health and productivity on the job. The continuing escalation of stress-related medical care utilization and costs, the negative effect of job stress on satisfaction as well as the dysfunctional and costly effects of stress on job performance and employee turnover rate are some of the documented health, psychological and behavioral consequences of stress.

Although racial and ethnic minority groups shoulder a disproportionate burden of death and disability from various stress-related illnesses, few studies have explored factors in the workplace that may contribute to these disparities in health. Because of their general concentration in low status, low paying and/or blue-collar jobs, some racial and ethnic minorities may be over-exposed to workplace factors traditionally linked to a variety of stress-related problems such as a high workload coupled with a lack of control or authority over work. In addition, racial and ethnic minorities are significantly more likely than non-minorities to encounter discrimination and other ethnocultural stressors in the workplace, ranging from assimilation pressures and isolation to inequalities in training and advancement. Ethnocultural stressors have been linked with psychological distress and other problems in physical and mental health.

On the other hand, occupational stress research experts suggest that certain workplace and other factors (e.g., co-worker and supervisory support, anti-discrimination policies and practices, etc.) may reduce stress among employees, including racial and ethnic minorities.

This research will focus on: (1)Assessing the degree to which minorities are exposed to traditionally-studied and ethnocultural stressors, (2) identifying the stressors that are most predictive of stress-related problems (e.g., symptoms of psychological distress, health-impairing behaviors) in racial and ethnic minorities, (3) identifying organizational and other factors that afford minorities protection against the development of stress-related problems and (4) developing an occupational stress toolkit (i.e. consisting of information and other resources) that will better enable employers and community-based organizations to prevent and manage occupational stress in diverse workplaces and communities.

This research will be conducted in three phases. In phase one, a 30-minute survey will be administered by telephone to 2300 Blacks/African Americans, White/European Americans, Hispanic/Latino Americans, American Indian/Alaska Natives, and Asian Americans. Additionally, a 90-minute qualitative interview will be administered face-to-face to 160 Blacks/African Americans, Hispanic/Latino Americans, American Indian/Alaska Natives, and Asian Americans recruited through community-based organizations. All telephone survey and qualitative interview respondents will be between the ages of 18 and 65, U.S. born and/or reared, either currently employed or unemployed for no more than 1 year, and living in the Chicago area. In phase two of this research, a 15-minute web-based, key informant survey will be administered to 60 employers (via Human Resource Representatives) and 60 community-based organizations (via Executive Directors) in the Chicago area. The web-based survey is designed to assess the informational needs of these organizations as they relate to addressing occupational stress in racially and ethnically diverse workforces or communities. NIOSH will combine the results of this needs assessment with phase one telephone survey and qualitative interview findings to develop and disseminate an occupational stress toolkit.

In phase three of this research, a second web-based key informant survey will be administered to the same 60 employers and 60 community-based organizations six months after the occupational stress toolkit has been disseminated to them for review and use. The survey will evaluate perceptions of the toolkits' utility and how well it met the organizations' needs. Also, the survey will elicit suggestions for its improvement.

Findings will be used to improve the toolkit and to help identify potential future intervention efforts to reduce occupational stress in racially and ethnically diverse workforces and communities. There is no cost to respondents other than their time.

Estimated Annualized Burden Hours
Form name | Number of respondents | Number of responses per respondent | Average burden response (in hours) | Total burden (in hours)
Phase I Workers Telephone Interviews | 2300 | 1 | 30/60 | 1150
Phase I Workers Qualitative Face-to-Face Interviews | 160 | 1 | 1.5 | 240
Phase II Employers and CBO's Web Based Interviews | 120 | 1 | 15/60 | 30
Phase III Follow-up Employers and CBO's Web Based Interviews | 120 | 1 | 15/60 | 30
Total |  |  |  | 1450

Dated: January 18, 2008.
Maryam I. Daneshvar,
Acting Reports Clearance Officer, Centers for Disease Control and Prevention.

[FR Doc. E8-1453 Filed 1-28-08; 8:45 am]

BILLING CODE 4163-18-P